INTERNATIONAL TRADE COMMISSION

[Investigation Nos. 701-TA-447; 731-TA-1116 (Preliminary)]

Circular Welded Carbon-Quality Steel Pipe From China

Determination

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured ² or threatened with material injury ³ by reason of imports from China of circular welded carbon-quality steel pipe, provided for in subheading 7306.30 of the Harmonized Tariff Schedule of the United States, that are alleged to be subsidized by the Government of China and sold in the United States at less than fair value (LTFV).⁴

¹ The record is defined in sec. 207.2(f) of the Commission's Rules of Practice and Procedure (19 CFR § 207.2(f)).

² Vice Chairman Shara L. Aranoff, Commissioner Charlotte R. Lane, and Commissioner Irving A. Williamson determine that there is a reasonable indication that an industry in the United States is materially injured by reason of imports of circular welded carbon-quality steel pipe from China.

³ Chairman Daniel R. Pearson and Commissioner Deanna Tanner Okun determine that there is a reasonable indication that an industry in the United States is threatened with material injury by reason of imports of circular welded carbon-quality steel pipe from China.

⁴ Commissioner Dean A. Pinkert recused himself to avoid any conflict of interest or appearance of a conflict.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in these investigations under sections 703(b) and 733(b) of the Act, or, if the preliminary determinations are negative, upon notice of affirmative final determinations in these investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On June 7, 2007, a petition was filed with the Commission and Commerce by Allied Tube & Conduit, Harvey, IL; IPSCO Tubulars, Inc., Camanche, IA; Northwest Pipe Co., Portland, OR; Sharon Tube Co., Sharon, PA; Western Tube & Conduit Corp., Long Beach, CA; Wheatland Tube Co., Collingswood, NJ; and the United Steelworkers, Pittsburgh, PA, alleging that an industry in the United States is materially injured and threatened with material injury by reason of subsidized and LTFV imports of circular welded carbon-quality steel pipe from China. Accordingly, effective June 7, 2007, the Commission instituted countervailing duty investigation No. 701-TA-447 (Preliminary) and antidumping duty investigation No. 731-TA-1116 (Preliminary).

Notice of the institution of the Commission's investigations and of a public conference to be held in connection therewith was given by posting copies of the notice in the Office of the Secretary, U.S. International Trade Commission, Washington, DC, and by publishing the notice in the Federal Register of June 14, 2007 (72 FR 32862). The conference was held in Washington, DC, on June 28, 2007, and all persons who requested the opportunity were permitted to appear in person or by counsel.

The Commission transmitted its determinations in these investigations to the Secretary of Commerce on July 23, 2007. The views of the Commission are contained in USITC Publication 3938 (July 2007), entitled Circular Welded Carbon-Quality Steel Pipe from China: Investigation Nos. 701-TA-447 and 731-TA-1116 (Preliminary).

Issued: July 31, 2007.
By order of the Commission.
Marilyn R. Abbott,
Secretary.

[FR Doc. E7-15067 Filed 8-2-07; 8:45 am]

BILLING CODE 7020-02-P